DEPARTMENT OF LABOR

Agency Information Collection Activities; Submission for OMB Review; Comment Request; Reemployment Services and Eligibility Assessment (RESEA) Evidence Building Portfolio Project

ACTION: Notice of availability; request for comments.

SUMMARY: The Department of Labor (DOL) is submitting this Chief Evaluation Office (CEO)-sponsored information collection request (ICR) to the Office of Management and Budget (OMB) for review and approval in accordance with the Paperwork Reduction Act of 1995 (PRA). Public comments on the ICR are invited.

DATES: The OMB will consider all written comments that the agency receives on or before October 10, 2025.

ADDRESSES: Written comments and recommendations for the proposed information collection should be sent within 30 days of publication of this notice to www.reginfo.gov/public/do/PRAMain. Find this particular information collection by selecting “Currently under 30-day Review—Open for Public Comments” or by using the search function.

Comments are invited on: (1) whether the collection of information is necessary for the proper performance of the functions of the Department, including whether the information will have practical utility; (2) the accuracy of the agency's estimates of the burden and cost of the collection of information, including the validity of the methodology and assumptions used; (3) ways to enhance the quality, utility and clarity of the information collection; and (4) ways to minimize the burden of the collection of information on those who are to respond, including the use of automated collection techniques or other forms of information technology.

FOR FURTHER INFORMATION CONTACT: Nicole Bouchet by telephone at 202-693-0213, or by email at DOL_PRA_PUBLIC@dol.gov.

SUPPLEMENTARY INFORMATION: DOL funds the Reemployment Services and Eligibility Assessment (RESEA) Evidence Building Portfolio Project programs in 49 states, the District of Columbia, Puerto Rico, and the Virgin Islands. States and territories use these funds to address the reemployment services needs of Unemployment Insurance (UI) claimants and to prevent and detect UI improper payments. DOL's Chief Evaluation Office contracted with Abt Global and its partners, the W.E. Upjohn Institute, the Behavioural Insights Team (BIT), American Institutes for Research (AIR), and the National Association of State Workforce Agencies—to develop strategies to support the evidence requirements for the RESEA program as enacted in 2018 amendments to the Social Security Act that permanently authorized RESEA. This Evidence Building Portfolio Project will help DOL establish rigorous and informative evidence standards and support states in conducting evaluations to expand the evidence base on effective RESEA interventions. The evidence standards and new evidence will each help states develop and implement RESEA programs that more quickly and cost-effectively return more claimants from UI back to work. For additional substantive information about this ICR, see the related notice published in the Federal Register on August 8, 2024 (89 FR 64961).

This information collection is subject to the PRA. A Federal agency generally cannot conduct or sponsor a collection of information, and the public is generally not required to respond to an information collection, unless the OMB approves it and displays a currently valid OMB Control Number. In addition, notwithstanding any other provisions of law, no person shall generally be subject to penalty for failing to comply with a collection of information that does not display a valid OMB Control Number. See 5 CFR 1320.5(a) and 1320.6.

DOL seeks PRA authorization for this information collection for three (3) years. OMB authorization for an ICR cannot be for more than three (3) years without renewal. The DOL notes that information collection requirements submitted to the OMB for existing ICRs receive a month-to-month extension while they undergo review.

Agency: DOL-CEO.

Title of Collection: Reemployment Services and Eligibility Assessment (RESEA) Evidence Building Portfolio Project.

OMB Control Number: 1290-0NEW.

Affected Public: Individuals or Households.

Total Estimated Number of Respondents: 439.

Total Estimated Number of Responses: 439.

Total Estimated Annual Time Burden: 375 hours.

Total Estimated Annual Other Costs Burden: $0.

(Authority: 44 U.S.C. 3507(a)(1)(D).)

Nicole Bouchet,
Senior Paperwork Reduction Act Analyst.

[FR Doc. 2025-17393 Filed 9-9-25; 8:45 am]

BILLING CODE 4510-HX-P